ENVIRONMENTAL PROTECTION AGENCY

[FRL-7424-6]

Proposed CERCLA Administrative Consent Order; In the Matter of: Picillo Farm Superfund Site, Coventry, RI

AGENCY: Environmental Protection Agency.

ACTION: Notice; request for public comment.

SUMMARY: In accordance with section 122(i) of the Comprehensive Environmental Response, Compensation, and Liability Act, as amended (“CERCLA”), 42 U.S.C. 9622(i), notice is hereby given of a proposed administrative settlement for removal action concerning the Picillo Farm Superfund site in Coventry, Rhode Island with the following settling parties: American Cyanamid Company, Ashland, Inc., ISP Environmental Services, Inc., General Electric Company, and Solutia, Inc. The settlement requires the settling parties to submit claims for reimbursement not to exceed $1.4 million to the Hazardous Substance Superfund. The settlement includes a covenant not to sue the settling parties pursuant to section 107(a) of CERCLA, 42 U.S.C. 9607(a). For 30 days following the date of publication of this notice, the Agency will receive written comments relating to the settlement. The Agency will consider all comments received and may modify or withdraw its consent to the settlement if comments received disclose facts or considerations which indicate that the settlement is inappropriate, improper, or inadequate. The Agency's response to any comments received will be available for public inspection with the Regional Docket Clerk, U.S. Environmental Protection Agency, Region I, One Congress Street, Suite 1100, Mailcode RCG, Boston, Massachusetts (U.S. EPA Docket No. CERCLA 01-2003-0007).

DATES: Comments must be submitted on or before January 21, 2003.

ADDRESSES: The proposed settlement is available for public inspection with the Regional Docket Clerk, One Congress Street, Boston, Massachusetts. A copy of the proposed settlement may be obtained from RuthAnn Sherman, U.S. Environmental Protection Agency, Region I, One Congress Street, Suite 1100, Mailcode SES, Boston, Massachusetts 02214, (617) 918-1886. Comments should reference the Picillo Farm Superfund Site, Coventry, Rhode Island, and EPA Docket No. 01-2003-0007 and should be addressed to the Docket Clerk, U.S. Environmental Protection Agency, Region I, One Congress Street, Suite 1100, Mailcode RCG, Boston, Massachusetts 02214.

FOR FURTHER INFORMATION CONTACT: RuthAnn Sherman, U.S. Environmental Protection Agency, Region I, One Congress Street, Suite 1100, Mailcode SES, Boston, Massachusetts 02214, (617) 918-1886.

Dated: December 5, 2002.
Stanley D. Chin,
Acting Director, Office of Site Remediation and Restoration.

[FR Doc. 02-31979 Filed 12-18-02; 8:45 am]

BILLING CODE 6560-50-P